DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 28, 2008.

Interested persons are invited to submit written comments regarding the subject matter of the investigations to the Director, Division of Trade Adjustment Assistance, at the address shown below, not later than April 28, 2008.

The petitions filed in this case are available for inspection at the Office of the Director, Division of Trade Adjustment Assistance, Employment and Training Administration, U.S. Department of Labor, Room C-5311, 200 Constitution Avenue, NW., Washington, DC 20210.

Signed at Washington, DC, this 11th day of April 2008.
Erin FitzGerald,
Acting Director, Division of Trade Adjustment Assistance.

Appendix
[TAA petitions instituted between 3/31/08 and 4/4/08]
TA-W | Subject firm (petitioners) | Location | Date of institution | Date of petition
63092 | Sun Chemical Corporation (Union) | Cincinnati, OH | 03/31/08 | 03/28/08
63093 | Saint-Gobin Vetrotex America (Union) | Wichita Falls, TX | 03/31/08 | 03/19/08
63094 | J J's Mae, Inc. (State) | San Francisco, CA | 03/31/08 | 03/28/08
63095 | Western Union (Wkrs) | Bridgeton, MO | 03/31/08 | 03/27/08
63096 | Poly Vision Corporation (Comp) | Corona, CA | 03/31/08 | 03/27/08
63097 | Medtronic Microelectronics Center (Wkrs) | Tempe, AZ | 03/31/08 | 03/27/08
63098 | Ineos-Nova (Wkrs) | Belpre, OH | 03/31/08 | 03/26/08
63099 | WestPoint Home (Comp) | Elkin, NC | 04/01/08 | 03/31/08
63100 | Chillicothe Paper, Inc. (Comp) | Chillicothe, OH | 04/01/08 | 04/01/08
63101 | Modern Textile, Inc. (State) | Oakville, CT | 04/01/08 | 03/31/08
63102 | Robinson Manufacturing Company, Inc. (Wkrs) | Dayton, TN | 04/01/08 | 03/31/08
63103 | HD Supply, Inc. (Wkrs) | Columbus, GA | 04/01/08 | 03/31/08
63104 | Paris Accessories, Inc. (UNITE) | New Smithville, PA | 04/01/08 | 03/24/08
63105 | Bradenton Herald (Wkrs) | Bradenton, FL | 04/01/08 | 03/25/08
63106 | Brady Athletic, Inc. (Wkrs) | East Brady, PA | 04/01/08 | 03/31/08
63107 | Littel Fuse, Inc. (Comp) | Des Plaines, IL | 04/01/08 | 03/28/08
63108 | Guy Bennett Lumber Company (Wkrs) | Clarkston, WA | 04/01/08 | 03/26/08
63109 | Evergy, Inc. (Tecumseh Products Co.) (Wkrs) | Paris, TN | 04/01/08 | 03/13/08
63110 | Hanesbrands, Inc (Comp) | Advance, NC | 04/02/08 | 02/18/08
63111 | Brodnax Mills, Inc. (Wkrs) | Brodnax, VA | 04/02/08 | 03/27/08
63112 | Woverine Tube, Inc. (Comp) | Ardmore, TN | 04/02/08 | 03/31/08
63113 | Custom Metal Spinning, Inc. (State) | Paramount, CA | 04/02/08 | 04/01/08
63114 | Colgate-Palmolive (Comp) | Jeffersonville, IN | 04/02/08 | 02/15/08
63115 | Granite Knitwear, Inc. (Comp) | Granite Quarry, NC | 04/02/08 | 04/01/08
63116 | Dott Industries, Inc. (State) | Deckerville, MI | 04/02/08 | 03/21/08
63117 | Sroufe Healthcare Products, Inc. (Wkrs) | Ligonier, IN | 04/02/08 | 04/01/08
63118 | ARC Automotive, Inc. (AFLCIO) | Knoxville, TN | 04/02/08 | 04/01/08
63119 | Permacel, St. Louis Inc. (Union) | St. Louis, MO | 04/02/08 | 03/31/08
63120 | Honeywell Process Solutions (Comp) | Phoenix, AZ | 04/03/08 | 03/10/08
63121 | Fairchild Semiconductor (Comp) | South Portland, ME | 04/03/08 | 04/02/08
63122 | Chromcraft Revington, Inc. (Comp) | Delphi, IN | 04/03/08 | 04/02/08
63123 | Gerber Plumbing Fixtures, LLC (AFLCIO) | Kokomo, IN | 04/03/08 | 03/26/08
63124 | Berkline/Benchcraft LLC, Plant 8 (Wkrs) | Lenoir City, TN | 04/03/08 | 04/01/08
63125 | Currier Trucking Corporation (Comp) | Gorham, NH | 04/03/08 | 03/25/08
63126 | Teva Pharmaceuticals, USA (Comp) | Northvale, NJ | 04/03/08 | 03/05/08
63127 | Edscha Spartanburg (Comp) | Greer, SC | 04/04/08 | 04/03/08
63128 | Sun Chemical Corporation (Comp) | Hopkinsville, KY | 04/04/08 | 04/02/08
63129 | Warm Springs Forest Products Industries (Wkrs) | Warm Springs, OR | 04/04/08 | 04/02/08
63130 | Sea Gull Lighting (State) | Riverside, NJ | 04/04/08 | 04/03/08
63131 | Pfizer, Inc. (Wkrs) | Terre Haute, IN | 04/04/08 | 04/03/08
63132 | Honeywell International Inc./Aerospace (Wkrs) | Redmond, WA | 04/04/08 | 03/26/08
63133 | Mitch Murch's Maintenance Management (Wkrs) | Saint Louis, MO | 04/04/08 | 03/27/08
63134 | Dutch Mundy Chev., Inc. (Comp) | Independence, VA | 04/04/08 | 04/03/08
63135 | Leica Geosystems (Comp) | San Ramon, CA | 04/04/08 | 04/02/08
63136 | Netra Systems USA, Inc. (Comp) | Fayetteville, GA | 04/04/08 | 03/20/08
63137 | Quiksilver (Comp) | Huntington Beach, CA | 04/04/08 | 03/28/08
63138 | Prettl Electric Corporation (Comp) | Greenville, SC | 04/04/08 | 04/03/08

[FR Doc. E8-8243 Filed 4-16-08; 8:45 am]

BILLING CODE 4510-FN-P